DEPARTMENT OF ENERGY

Federal Energy Regulatory Commission

[Docket No. EL18-173-000]

Notice of Institution of Section 206 Proceeding and Refund Effective Date

Monongahela Power Company

Potomac Edison Company

West Penn Power Company

AEP Indiana Michigan Transmission Company, Inc.

AEP Kentucky Transmission Company, Inc.

AEP Ohio Transmission Company, Inc.

AEP West Virginia Transmission Company, Inc.

Appalachian Power Company

Indiana Michigan Power Company

Kentucky Power Company

Kingsport Power Company

Ohio Power Company

Wheeling Power Company

Commonwealth Edison Company

Commonwealth Edison Company of Indiana, Inc.

Dayton Power and Light Company

Virginia Electric and Power Company

Public Service Electric and Gas Company

PECO Energy Company

PPL Electric Utilities Corporation

Baltimore Gas and Electric Company

Jersey Central Power & Light Company

Potomac Electric Power Company

Atlantic City Electric Company

Delmarva Power & Light Company

UGI Utilities Inc.

Allegheny Electric Cooperative, Inc.

CED Rock Springs, LLC

Old Dominion Electric Cooperative

Rockland Electric Company

Duquesne Light Company

Neptune Regional Transmission System, LLC

Trans-Allegheny Interstate Line Company

Linden VFT, LLC

American Transmission Systems, Incorporated

City of Cleveland, Department of Public Utilities, Division of Cleveland Public Power

Duke Energy Ohio, Inc.

Duke Energy Kentucky, Inc.

City of Hamilton, OH

Hudson Transmission Partners, LLC

East Kentucky Power Cooperative, Inc.

City of Rochelle

ITC Interconnection LLC

Mid-Atlantic Interstate Transmission, LLC

Southern Maryland Electric Cooperative, Inc.

Ohio Valley Electric Corporation

On July 2, 2018, the Commission issued an order in Docket No. EL18-173-000, pursuant to section 206 of the Federal Power Act (FPA), 16 U.S.C. 824e (2012), instituting an investigation to require the above-captioned PJM Interconnection, L.L.C. Transmission Owners to refile Schedule 12 of the PJM Tariff to clearly specify its Open Access Transmission Tariff or show cause why Schedule 12 should not be revised. Monongahela Power Company, et al., 164 FERC ¶ 61,002 (2018).

The refund effective date in Docket No. EL18-173-000, established pursuant to section 206(b) of the FPA, will be the date of publication of this notice in the Federal Register.

Any interested person desiring to be heard in Docket No. EL18-173-000 must file a notice of intervention or motion to intervene, as appropriate, with the Federal Energy Regulatory Commission, 888 First Street NE, Washington, DC 20426, in accordance with Rule 214 of the Commission's Rules of Practice and Procedure, 18 CFR 385.214, within 21 days of the date of issuance of the order.

Dated: July 2, 2018.
Kimberly D. Bose,
Secretary.

[FR Doc. 2018-14771 Filed 7-10-18; 8:45 am]

BILLING CODE 6717-01-P